DEPARTMENT OF ENERGY

Federal Energy Regulatory Commission

[Docket No. AD12-10-000]

Reactive Power Resources; Supplemental Notice of Technical Conference

On February 17, 2012, the Federal Energy Regulatory Commission (Commission) announced that a staff Technical Conference on Reactive Power Resources will be held on April 17, 2012, beginning at 9 a.m. (EDT) in the Commission Meeting Room at the Commission's headquarters, located at 888 First Street NE., Washington, DC 20426. The technical conference will be led by staff, and Commissioners may be in attendance. The conference will be open for the public to attend. Advance registration is not required, but is encouraged to facilitate the building security process. You may register at the following Web page: https://www.ferc.gov/whats-new/registration/reactive-power-4-17-12-form.asp.

Attached to this supplemental notice is an agenda for the conference. If any changes are made, the revised agenda will be posted prior to the event on the Calendar of Events on the Commission's Web site, www.ferc.gov.

The conference will be transcribed and available by webcast. Transcripts will be available immediately for a fee from Ace Reporting Company (202-347-3700 or 1-800-336-6646). A free webcast of the technical conference in this proceeding is also available. Anyone with Internet access interested in viewing this conference can do so by navigating to the FERC Calendar of Events at www.ferc.gov and locating this event in the Calendar. The event will contain a link to its webcast. The Capitol Connection provides technical support for the webcasts and offers the option of listening to the conferences via phone-bridge for a fee. If you have any questions, visit www.CapitolConnection.org or call (703) 993-3100.

FERC conferences are accessible under section 508 of the Rehabilitation Act of 1973. For accessibility accommodations please send an email to accessibility@ferc.gov or call toll free 1-866-208-3372 (voice) or 202-208-8659 (TTY); or send a fax to 202-208-2106 with the required accommodations.

For more information on this conference, please contact Mary Cain at mary.cain@ferc.gov or (202) 502-6337, or Sarah McKinley at sarah.mckinley@ferc.gov or (202) 502-8004.

Dated: April 2, 2012.
Kimberly D. Bose,
Secretary.

The purpose of the technical conference is to examine whether the Commission should reconsider or modify the reactive power provisions of Order No. 661-A and examine what evidence could be developed under Order No. 661 to support a request to apply reactive power requirements more broadly than to individual wind generators during the interconnection study process.

Agenda for the Technical Conference on Reactive Power Resources

AD12-10

April 17, 2012

9 a.m.-9:15 a.m. Greeting and Opening Remarks.

9:15 a.m.-12:15 p.m. Discussion of Reactive Power in Interconnection Studies.

This panel will discuss:

• Methods used to determine the reactive power requirements for a transmission system, and

• How system impact and system planning studies take into account changes in technologies connected to the system.

• What evidence could be developed to support a request to apply reactive power requirements more broadly than to individual wind generators during the interconnection study process.

Panelists:

• Noman Williams, Vice President—Transmission Policy, Sunflower Electric Power Corporation

• Yi Zhang, Senior Regional Transmission Engineer, California ISO

• Eric Laverty, Director of Transmission Access Planning, Midwest ISO

• Dmitry Kosterev, Electrical Engineer, Bonneville Power Administration

• Robert Jenkins, Director—Utility Interconnection, First Solar

• Kris Zadlo, Vice President, Invenergy

• Richard Kowalski, Director—Transmission Strategy and Services, ISO New England Inc.

• Warren Lasher, Director, System Planning, ERCOT, Inc.

12:15 p.m.-1:15 p.m. Lunch Break.

1:15 p.m.-4:15 p.m. Discussion of Reactive Power Resources.

Discussion items will include:

• The technical and economic characteristics of different types of reactive power resources, including synchronous and asynchronous generation resources, transmission resources and energy storage resources;

• The design options for and cost of installing reactive power equipment at the time of interconnection as well as retrofitting a resource with reactive power equipment;

• Other means by which reactive power is currently secured such as through self-supply; and

• How a technology that is capable of providing reactive power but may not be subject to the generation interconnection process (e.g., FACTs) would be analyzed.

Panelists:

• Robert Nelson, Manager of Codes, Standards, and Regulations, Siemens Wind Turbines—Americas

• Kris Zadlo, Vice President, Invenergy

• Robert Jenkins, Director—Utility Interconnection, First Solar

• Michael Jacobs, Director Market and Regulatory Policy, Xtreme Power, Vice-Chair, Electricity Storage Association Advocacy Council

• Khaled Abdul-Rahman, Director, Power Systems Technology Development, California ISO

• Eric Laverty, Director of Transmission Access Planning, Midwest ISO

• Dmitry Kosterev, Electrical Engineer, Bonneville Power Administration

• Warren Lasher, Director, System Planning, ERCOT, Inc.

[FR Doc. 2012-8524 Filed 4-9-12; 8:45 am]

BILLING CODE 6717-01-P